FEDERAL COMMUNICATIONS COMMISSION

[CG Docket No. 10-51; DA 11-317]

Consumer and Governmental Affairs Bureau Seeks Comment on Application of New and Emerging Technologies for Video Relay Service Use

AGENCY: Federal Communications Commission.

ACTION: Notice.

SUMMARY: In this document, the Commission seeks comment regarding new and emerging technologies that may be used to access Video Relay Service (VRS). With the proliferation of access to VRS through mobile technologies, the Commission has an interest in gathering information about use of these technologies in compliance with the Commission's rules. Comments received in response to this document will supplement the comments received in response to the VRS Structure and Practices Notice of Inquiry (VRS Structure and Practices NOI), and will be incorporated into the record of that proceeding.

DATES: Comments are due April 1, 2011. Reply comments are due April 18, 2011.

ADDRESSES: FCC Headquarters at 445 12th Street, SW., Room TW-A325, Washington, DC 20554. You may submit comments, identified by [CG Docket No. 10-51], by any of the following methods:

• Electronic Filers: Comments may be filed electronically using the Internet by accessing the Commission's Electronic Comment Filing System (ECFS) http://fjallfoss.fcc.gov/ecfs2/ or the Federal eRulemaking Portal: http://www.regulations.gov. Filers should follow the instructions provided on the Web site for submitting comments and transmit one electronic copy of the filing to each docket number referenced in the caption, which in this case is CG Docket No. 10-51. For ECFS filers, in completing the transmittal screen, filers should include their full name, U.S. Postal Service mailing address, and the applicable docket number.

• Parties may also submit an electronic comment by Internet e-mail. To get filing instructions, filers should send an e-mail to ecfs@fcc.gov, and include the following words in the body of the message, “get form {your e-mail address}. A sample form and directions will be sent in response.

• Paper Filers: Parties who choose to file by paper must file an original and four copies of each filing. In addition, parties must send one copy to the Commission's duplicating contractor, Best Copy and Printing, Inc., 445 12th Street, SW., Washington, DC 20554, or via e-mail to fcc@bcpiweb.com. Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th Street, SW., Room TW-A325, Washington, DC 20554. All hand deliveries must be held together with rubber bands or fasteners.

• Envelopes must be disposed of before entering the building. The filing hours are 8 a.m. to 7 p.m.

• Commercial overnight mail (other than U.S. Postal Service Express Mail and Priority Mail) must be sent to 9300 East Hampton Drive, Capitol Heights, MD 20743. U.S. Postal Service first-class, Express, and Priority mail must be addressed to 445 12th Street, SW., Washington DC 20554.

FOR FURTHER INFORMATION CONTACT: Diane Mason, Consumer and Governmental Affairs Bureau, Disability Rights Office, at (202) 418-7126 or Diane.Mason@fcc.gov.

SUPPLEMENTARY INFORMATION: This is a summary of the Commission's Consumer and Governmental Affairs Bureau Seeks Comment on Application of New and Emerging Technologies for Video Relay Service Use, Public Notice, document DA 11-317, released on February 17, 2011, in CG Docket No. 10-51.

The full text of document DA 11-317 and copies of any subsequently filed documents in this matter will be available for public inspection and copying via ECFS, and during regular business hours at the FCC Reference Information Center, Portals II, 445 12th Street, SW., Room CY-A257, Washington, DC 20554. They may also be purchased from the Commission's duplicating contractor, Best Copy and Printing, Inc., Portals II, 445 12th Street, SW., Room CY-B402, Washington, DC 20554, telephone: (800) 378-3160, fax: (202) 488-5563, or Internet: http://www.bcpiweb.com. Document DA 11-317 can also be downloaded in Word or Portable Document Format (PDF) at http://www.fcc.gov/cgb/policy. To request materials in accessible formats for people with disabilities (Braille, large print, electronic files, audio format), send an e-mail to fcc504@fcc.gov or call the Consumer and Governmental Affairs Bureau at 202-418-0530 (voice), 202-418-0432 (TTY).

In the VRS Structure and Practices NOI, the Commission designated the ex parte status of the proceeding as “permit-but-disclose,” so any presentations related to document DA 11-317 will also be designated as such. Pursuant to 47 CFR 1.1200 et. seq., this matter shall be treated as a “permit-but-disclose” proceeding in accordance with the Commission's ex parte rules. Persons making oral ex parte presentations are reminded that memoranda summarizing the presentations must contain summaries of the substance of the presentations and not merely a listing of the subjects discussed. More than a one or two sentence description of the views and arguments presented is generally required. Other rules pertaining to oral and written ex parte presentations in permit-but-disclose proceedings are set forth in 47 CFR 1.1206(b).

Synopsis

As part of ongoing VRS reform efforts associated with the VRS Structure and Practices NOI, the Bureau seeks additional comment and information regarding new and emerging technologies that may be used to access VRS. See Structure and Practices of the Video Relay Service Program, Notice of Inquiry, published at 75 FR 41863, July 19, 2010. In the VRS Structure and Practices NOI, the Commission sought comment on how to improve the VRS program “to ensure that it is available to and used by the full spectrum of eligible users, encourages innovation, and is provided efficiently so as to be less susceptible to the waste, fraud, and abuse that plague the current program and threaten its long-term viability.” The NOI also sought comment on a number of issues concerning the provision of off-the-shelf video equipment, including the extent to which such equipment is available and affordable to VRS consumers, the extent to which this equipment can serve as an acceptable substitute for videophone equipment and software specifically designed for VRS users, and the extent to which changes in the VRS program are needed to allow consumers to use such equipment for VRS calls. Given the recent proliferation of these video technologies, the Bureau now requests that interested parties provide additional information and comment on the specific functionalities of these devices as they relate to the provision and use of VRS as follows:

• What specific features or functions of off-the-shelf equipment, services, and software are needed to effectively use VRS? Commenters should specify whether each feature or function is necessary to use VRS and point-to-point communications or could be optional. What broadband speeds and frames-per-second transmission rates are necessary for acceptable video quality? What lux (lx) level ratings are required for a camera to produce acceptable images in low light settings? What other features must a camera have (e.g., pan, zoom, tilt)? How much jitter (lateral and angular) is tolerable?

• To what extent are consumers currently using off-the-shelf video communication software and/or platforms in connection with VRS? How often do consumers use these technologies (e.g., Skype, Apple FaceTime) as compared to equipment and software issued by VRS providers for point-to-point communications? What are the advantages and disadvantages of the off-the-shelf technologies compared to technologies provided by VRS-providers? For example, are there specific functionalities—for either VRS or point-to-point communications—that these technologies offer that are not available on devices issued by providers? What are the current limitations of such technologies (e.g., with respect to interoperability, numbering, emergency services) and to what extent do such limitations impede their use by persons who rely on VRS? Do such off-the-shelf technologies comply with the Commission's current rules? If they do not comply, in what ways do they not comply?

Federal Communications Commission.
Karen Peltz Strauss,
Deputy Bureau Chief, Consumer and Governmental Affairs Bureau.

[FR Doc. 2011-4646 Filed 3-1-11; 8:45 am]

BILLING CODE 6712-01-P